DEPARTMENT OF THE INTERIOR

Bureau of Land Management

[OR-958-1430-ET; HAG-01-0206; OR-13498]

Expiration of Public Land Order; OR

AGENCY: Bureau of Land Management, Interior.

ACTION: Notice.

SUMMARY: Public Land Order (PLO) No. 5820, which withdrew forest system lands from the mining laws to protect the Cow Creek Recreation and Administrative Site, was allowed to expire on January 21, 2001, in Douglas County, Oregon.

EFFECTIVE DATE: June 11, 2001.

FOR FURTHER INFORMATION CONTACT: Charles R. Roy, BLM Oregon/Washington State Office, 503-952-6189.

SUPPLEMENTARY INFORMATION: Public Land Order (PLO) No. 5820, published in the Federal Register, 46 FR 6947, January 22, 1981 as FR Doc. 81-2262, for the Forest Service, withdrew 120 acres of forest system lands from the mining laws to protect the Cow Creek Recreation and Administrative Site has been allowed to expire.

At 8:30 a.m. on June 11, 2001, the segregative effect for the Federal interests in the above mentioned PLO, is lifted, and the land opened to such forms of disposition as may by law be made of forest system lands, subject to valid existing rights, the provisions of existing withdrawals, other segregations of record, and the requirements of applicable law.

Dated: May 24, 2001.
Robert D. DeViney, Jr.,
Chief, Branch of Realty and Records Services.

[FR Doc. 01-14561 Filed 6-8-01; 8:45 am]

BILLING CODE 4310-33-P